DEPARTMENT OF THE INTERIOR

Fish and Wildlife Service

Rainwater Basin Wetland Management District, Nebraska

AGENCY: Fish and Wildlife Service, Interior.

ACTION: Notice of availability; request for comments.

SUMMARY: We, the U.S. Fish and Wildlife Service (Service, We) announces that the draft Comprehensive Conservation Plan (CCP) and Environmental Assessment (EA) for the Rainwater Basin Wetland Management District (WMD, District) is available. This draft CCP/EA describes how the Service intends to manage this District for the next 15 years. We request public comment.

DATES: To ensure consideration, we must receive your written comments on the draft CCP/EA by August 17, 2007.

ADDRESSES: Please provide written comments to Bernardo Garza, Planning Team Leader, Division of Refuge Planning, Branch of Comprehensive Conservation Planning, Mountain-Prairie Region, P.O. Box 25486, Denver Federal Center, Denver, Colorado 80225-0486; via facsimile at 303-236-4792; or electronically to bernardo_garza@fws.gov. A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: Bernardo Garza, 303-236-4377 or John Esperance, 303-236-4369.

SUPPLEMENTARY INFORMATION: Rainwater Basin WMD was established in 1963 when the Service began acquiring critical migratory waterfowl habitat in south-central and southeast Nebraska with Duck Stamp dollars. This WMD was established for the following purposes: (1) “* * * To assure the long-term viability of the breeding waterfowl population and production through the acquisition and management of Waterfowl Production Areas, while considering the needs of other migratory birds, threatened and endangered species and other wildlife.” (purpose statement developed for all WMDs in Region 6 in June 2004); (2) “* * * to acquire * * * small wetland and pothole areas * * * to be designated as ‘Waterfowl Production Areas’ * * * as an inviolate sanctuary or for any other management purpose, for migratory birds * * * and to restore and develop adequate wildlife habitat” under the Migratory Bird Hunting and Conservation Stamp Act [16 U.S.C. 715d (2), 715i(a) & 718 (c)]; (3) “for conservation purposes” under the Consolidated Farm and Rural Development Act [7 U.S.C. 2002(a)]; (4) “promote * * * the conservation of the wetlands of the Nation in order to maintain the public benefits they provide and to help fulfill international obligations in various migratory bird treaties and conventions with Canada, Mexico, Japan, the Union of Soviet Socialist Republics, and with various countries in the Western Hemisphere” under the Emergency Wetlands Resources Act [16 U.S.C. 3901(b)]; and (5) “to protect waterfowl production areas” under Public Land Orders 6979 [May 25, 1993], and 7206 [June 24, 1996].

Today, the District manages approximately 23,500 acres in 61 individual tracts of land within the geographic area called the Rainwater Basin. This District encompasses a complex of wetlands scattered throughout a 17-county area. Current public use opportunities at this WMD include hunting, wildlife observation and photography.

This draft CCP/EA identifies and evaluates two alternatives for managing the District for the next 15 years. Alternative A, the No Action alternative, reflects the current management of the District. It provides the baseline against which to compare the other alternative. District habitats would continue to be managed on an opportunistic schedule that may maintain, or most likely would result in further decline in, the diversity of vegetation and water quality and quantity in the wetlands. District staff would continue to perform only limited research and would monitor only long-term vegetation change. Partnerships and priority public uses such as fishing, hunting, wildlife observation and wildlife photography would continue at present levels. Other priority public uses such as environmental education and interpretation would only be available on an informal basis. Outreach efforts would not be attainable due to the staff's inability to support them. The District would continue to support and work cooperatively to further the goals of the Rainwater Basin Joint Venture.

Alternative B is the Service's proposed action and basis for the draft CCP. Under this alternative the staff would continue to pursue the same goals and activities as in Alternative A but the emphasis would be to address all aspects in a holistic manner. The WMD would work with formal and informal partnerships, including landowners, to improve waterfowl production areas at a landscape level. Actions would strive to build a “neighborly interaction” between privately-owned, State and WMD lands within each watershed. The WMD would work with partners to complete the engineering and funding and would continue to support and work cooperatively to further the goals of the Rainwater Basin Joint Venture.

The proposed action (Alternative B) was selected because it best meets the purposes and goals of the District, as well as the mission and goals of the National Wildlife Refuge System. The proposed action will also benefit federally listed species, shore birds, migrating and nesting waterfowl, neotropical migrants and resident wildlife. Environmental education and partnerships will result in improved wildlife-dependent recreational opportunities. Cultural and historical resources as well as federally listed species will be protected.

Opportunity for public input will be provided at public meetings to be scheduled soon. The specific date and time for the public meeting is yet to be determined, but will be announced via local media and a planning update. All information provided voluntarily by mail, by phone, or at public meetings (e.g., names, addresses, letters of comment, input recorded during meetings) becomes part of the official public record. If requested under the Freedom of Information Act by a private citizen or organization, the Service may provide copies of such information. The environmental review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: March 30, 2007.
Elliott Sutta,
Acting Regional Director, Region 6, Denver, Colorado.

Editorial Note: This document was received at the Office of the Federal Register on July 13, 2007.

[FR Doc. E7-13887 Filed 7-17-07; 8:45 am]

BILLING CODE 4310-55-P